INTERNATIONAL TRADE COMMISSION

[Investigation No. 337-TA-811]

Certain Integrated Solar Power Systems and Components Thereof; Notice of Termination of the Investigation Based on Settlement

AGENCY: U.S. International Trade Commission.

ACTION: Notice.

SUMMARY: Notice is hereby given that the U.S. International Trade Commission has determined not to review an initial determination (“ID”) (Order No. 11) of the presiding administrative law judge (“ALJ”) terminating the investigation based on settlement agreements.

FOR FURTHER INFORMATION CONTACT: Michael Liberman, Esq., Office of the General Counsel, U.S. International Trade Commission, 500 E Street SW., Washington, DC 20436, telephone (202) 205-3106. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 8, 2011, based on a complaint filed by Westinghouse Solar, Inc. and Andalay Solar, Inc., both of Campbell, California, alleging a violation of section 337 in the importation, sale for importation, and sale within the United States after importation of certain integrated solar power systems and components thereof by reason of infringement of certain claims of U.S. Patent Nos. 7,406,800 and 7,987,641. 76 FR 69284 (Nov. 8, 2011). The respondents are Zep Solar, Inc. of San Rafael, California; Canadian Solar Inc. of Kitchener, Ontario, Canada; and Canadian Solar (USA) Inc. of San Ramon, California. Id.

On May 25, 2012, all of the private parties filed a joint motion to terminate the investigation based on confidential settlement agreements under Commission rules 210.21(a)(2) and (b). The Commission investigative attorney supported the motion.

On June 13, 2012, the presiding ALJ issued an ID (Order No. 11) granting the joint motion. No party petitioned for review of the ID.

The authority for the Commission's determination is contained in section 337 of the Tariff Act of 1930, as amended, 19 U.S.C. 1337, and in section 210.42(h) of the Commission's Rules of Practice and Procedure, 19 CFR 210.42(h).

By order of the Commission.
Issued: June 29, 2012.
Lisa R. Barton,
Acting Secretary to the Commission.

[FR Doc. 2012-16433 Filed 7-3-12; 8:45 am]

BILLING CODE 7020-02-P